DEPARTMENT OF TRANSPORTATION

[Dockets DOT-OST-2013-0105 and DOT-OST-2013-0106; Notice of Order to Show Cause (Order 2014-2-11)]

Applications of Western Global Airlines, LLC for Certificate Authority

AGENCY: Department of Transportation.

ACTION: Notice.

SUMMARY: The Department of Transportation is directing all interested persons to show cause why it should not issue orders finding Western Global Airlines, LLC fit, willing, and able, and awarding it certificates of public convenience and necessity authorizing it to engage in interstate and foreign charter air transportation of property and mail.

DATES: Persons wishing to file objections should do so no later than February 19, 2014.

ADDRESSES: Objections and answers to objections should be filed in Dockets DOT-OST-2013-0105 and DOT-OST-2013-0106 and addressed to the Department of Transportation, Docket Operations, 1200 New Jersey Avenue SE., West Building Ground Floor, Room W12-140, Washington, DC and should be served upon the parties listed in Attachment A to the order.

FOR FURTHER INFORMATION CONTACT: Catherine O'Toole, Air Carrier Fitness Division, (X-56, Office W86-469), U.S. Department of Transportation, 1200 New Jersey Avenue SE., Washington, DC 20590, (202) 366-9721.

Dated: February 11, 2014.
Susan L. Kurland,
Assistant Secretary for Aviation and International Affairs.

[FR Doc. 2014-03598 Filed 2-21-14; 8:45 am]

BILLING CODE P